DEPARTMENT OF ENERGY

Federal Energy Regulatory Commission

Combined Notice of Filings

Take notice that the Commission has received the following Natural Gas Pipeline Rate and Refund Report filings:

Filings Instituting Proceedings

Docket Numbers:RP23-98-000.

Applicants: Transcontinental Gas Pipe Line Company, LLC.

Description: § 4(d) Rate Filing: Non-Conforming—Adelphia West Ridge Interconnect to be effective 12/1/2022.

Filed Date: 10/28/22.

Accession Number: 20221028-5172.

Comment Date: 5 p.m. ET 11/9/22.

Docket Numbers: RP23-99-000.

Applicants: Transcontinental Gas Pipe Line Company, LLC.

Description: § 4(d) Rate Filing: List of Non-Conforming Service Agreements (Adelphia West Ridge) to be effective 12/1/2022.

Filed Date: 10/28/22.

Accession Number: 20221028-5191.

Comment Date: 5 p.m. ET 11/9/22.

Docket Numbers: RP23-100-000.

Applicants: Texas Eastern Transmission, LP.

Description: § 4(d) Rate Filing: TETLP PCB DEC 2022 Filing to be effective 12/1/2022.

Filed Date: 10/28/22.

Accession Number: 20221028-5193.

Comment Date: 5 p.m. ET 11/9/22.

Docket Numbers: RP23-101-000.

Applicants: Equitrans, L.P.

Description: § 4(d) Rate Filing: Amended Negotiated Rate Agreements—11/1/2022 to be effective 11/1/2022.

Filed Date: 10/31/22.

Accession Number: 20221031-5026.

Comment Date: 5 p.m. ET 11/14/22.

Docket Numbers: RP23-102-000.

Applicants: Equitrans, L.P.

Description: Compliance filing: Operational Purchases and Sales Report for 2022 to be effective N/A.

Filed Date: 10/31/22.

Accession Number: 20221031-5029.

Comment Date: 5 p.m. ET 11/14/22.

Docket Numbers: RP23-103-000.

Applicants: Equitrans, L.P.

Description: § 4(d) Rate Filing: Remove Terminated Negotiated Rate Agreement 11/1/2022 to be effective 11/1/2022.

Filed Date: 10/31/22.

Accession Number: 20221031-5030.

Comment Date: 5 p.m. ET 11/14/22.

Docket Numbers: RP23-104-000.

Applicants: Algonquin Gas Transmission, LLC.

Description: § 4(d) Rate Filing: AGT FRQ 2022 Filing to be effective 12/1/2022.

Filed Date: 10/31/22.

Accession Number: 20221031-5038.

Comment Date: 5 p.m. ET 11/14/22.

Docket Numbers: RP23-105-000.

Applicants: Enable Gas Transmission, LLC.

Description: § 4(d) Rate Filing: 10-28-22 Amended NRA to be effective 11/1/2022.

Filed Date: 10/31/22.

Accession Number: 20221031-5066.

Comment Date: 5 p.m. ET 11/14/22.

Docket Numbers: RP23-106-000.

Applicants: Transwestern Pipeline Company, LLC.

Description: § 4(d) Rate Filing: Negotiated Rate Filing to be effective 12/1/2022.

Filed Date: 10/31/22.

Accession Number: 20221031-5067.

Comment Date: 5 p.m. ET 11/14/22.

Docket Numbers: RP23-107-000.

Applicants: Panhandle Eastern Pipe Line Company, LP.

Description: § 4(d) Rate Filing: Negotiated Rates Filing to be effective 11/1/2022.

Filed Date: 10/31/22.

Accession Number: 20221031-5069.

Comment Date: 5 p.m. ET 11/14/22.

Docket Numbers: RP23-108-000.

Applicants: Florida Gas Transmission Company, LLC.

Description: § 4(d) Rate Filing: Amended NRA Filing to be effective 11/1/2022.

Filed Date: 10/31/22.

Accession Number: 20221031-5070.

Comment Date: 5 p.m. ET 11/14/22.

Docket Numbers: RP23-109-000.

Applicants: Florida Gas Transmission Company, LLC.

Description: § 4(d) Rate Filing: New Service Agreement—OUC to be effective 11/1/2022.

Filed Date: 10/31/22.

Accession Number: 20221031-5073.

Comment Date: 5 p.m. ET 11/14/22.

Docket Numbers: RP23-110-000.

Applicants: Florida Gas Transmission Company, LLC.

Description: § 4(d) Rate Filing: Update Non-Conforming List—OUC to be effective 11/1/2022.

Filed Date: 10/31/22.

Accession Number: 20221031-5074.

Comment Date: 5 p.m. ET 11/14/22.

Docket Numbers: RP23-111-000.

Applicants: Northern Natural Gas Company.

Description: § 4(d) Rate Filing: 20221031 Negotiated Rate to be effective 11/1/2022.

Filed Date: 10/31/22.

Accession Number: 20221031-5153.

Comment Date: 5 p.m. ET 11/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2022.
Debbie-Anne A. Reese,
Deputy Secretary.

[FR Doc. 2022-24041 Filed 11-3-22; 8:45 am]

BILLING CODE 6717-01-P